DEPARTMENT OF JUSTICE

Notice of Lodging of Proposed Consent Decree Under the Clean Air Act

On September 21, 2015, the Department of Justice lodged a proposed consent decree with the United States District Court for the Southern District of West Virginia in the lawsuit entitled United States v. Bayer CropScience LP, Civil Action No. 2:15-cv-13331.

The United States filed this lawsuit under the Clean Air Act. The United States' complaint alleges that Bayer CropScience violated section 112(r) of the Clean Air Act, 42 U.S.C. 7412(r), which addresses the prevention of accidental releases. The claims arise out of a 2008 explosion at the Methomyl production unit at Bayer CropScience's plant in Institute, West Virginia. The consent decree requires the defendant, Bayer CropScience LP, to pay a civil penalty of $975,000, to perform injunctive relief to reduce the likelihood of future accidents at the Institute Plant and several other chemical processing plants, and to perform supplemental environmental projects valued collectively at $4.23 million.

The publication of this notice opens a period for public comment on the consent decree. Comments should be addressed to the Assistant Attorney General, Environment and Natural Resources Division, and should refer to United States v. Bayer CropScience LP, D.J. Ref. No. 90-5-2-1-10802. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, D.C. 20044-7611.

During the public comment period, the consent decree may be examined and downloaded at this Justice Department Web site: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $43.25 (25 cents per page reproduction cost) payable to the United States Treasury. For a paper copy without the exhibits and signature pages, the cost is $10.00.

Maureen Katz,
Assistant Section Chief, Environmental Enforcement Section, Environment and Natural Resources Division.

[FR Doc. 2015-24401 Filed 9-24-15; 8:45 am]

BILLING CODE 4410-15-P